DEPARTMENT OF HEALTH AND HUMAN SERVICES

[Document Identifier: OS-0990-New; 60-day Notice]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: Wellness Program Study: Assessing the Impact of Workplace Health and Wellness Programs—OMB No. 0990-NEW—Assistant Secretary for Planning Evaluation (ASPE)

Abstract: The Office of the Assistant Secretary for Planning and Evaluation (ASPE) and the Employee Benefits Security Administration (EBSA) is requesting Office of Management and Budget (OMB) approval on a new collection to conduct a survey on employers to learn about their experiences and attitudes regarding workplace wellness programs. ASPE will use the employers' experience to assess the effectiveness and impact of workplace wellness programs, as well as identify best practices and lessons learned in program implementation with a particular focus on the use of incentives. As part of the study, a one-time, self-administered survey will be administered to 3,000 employers selected from the Dun & Bradstreet database, a comprehensive listing of private companies and government agencies in the U.S. The survey will assess prevalence and type of wellness programs as well as the use of employee incentives. The survey design and content is informed by a review of the literature on the characteristics, prevalence and impact of workplace wellness programs. Data collection will also include employee focus groups and key informant semi-structured interviews at each of 4 employer sites that will inform in-depth case studies of those employers. The focus groups will consist of 12 employees and will be conducted to get the end-user perspective on the impact and effectiveness of the wellness program. The key informant interviews will be carried out with 5 wellness leaders at each employer, and will gather information on employer background, health insurance and wellness programs offered, and anticipated changes due to the Affordable Care Act. Data collection activities will be completed within 18 months of OMB Clearance.

Exhibit 1—Estimate of Annualized Time Burden to Respondents
Forms | Type of respondent | Number of respondents | Number of responses per respondent | Average burden per response (in hours) | Total burden hours
Survey | Human Resource Manager | 3,000 | 1 | 30/60 | 1,500
Focus Group Protocol | Employees in All Occupations | 48 | 1 | 1.5 | 72
Key Informant Interview Script | Human Resource Manager | 20 | 1 | 45/60 | 15
Total |  |  |  |  | 1,587

Seleda Perryman,
Office of the Secretary, Paperwork Reduction Act Clearance Officer.

[FR Doc. 2011-7172 Filed 3-25-11; 8:45 am]

BILLING CODE 4150-05-P